DEPARTMENT OF ENERGY

Federal Energy Regulatory Commission

[Docket No. EL04-43-002, et al.]

Tenaska Power Services, Co., et al.; Electric Rate and Corporate Filings

August 12, 2004.

The following filings have been made with the Commission. The filings are listed in ascending order within each docket classification.

1. Tenaska Power Services, Co. v. Midwest Independent Transmission System Operator, Inc.; Cargill Power Markets, LLC v. Midwest Independent Transmission System Operator, Inc.

[Docket Nos. EL04-43-002, EL04-46-002 (Not Consolidated)]

Take notice that on August 9, 2004, Midwest Independent Transmission System Operator, Inc. submitted a compliance filing pursuant to the Commission's order issued June 23, 2004, in Docket Nos. EL04-43-001 and EL04-46-001, 107 FERC ¶ 61,308.

Comment Date: 5 p.m. eastern time on August 30, 2004.

2. Entergy Services, Inc.

[Docket No. ER91-569-023]

Take notice that, on August 9, 2004, Entergy Services, Inc. (ESI), on behalf of Entergy Arkansas, Inc., Entergy Gulf States, Inc., Entergy Louisiana, Inc., Entergy Mississippi, Inc., and Entergy New Orleans, Inc. (collectively, Entergy), submitted a compliance filing under protest pursuant to the Commission's orders issued on April 14, 2004, in Docket No. ER96-2495-016, et al., 107 FERC ¶ 61, 018 and July 8, 2004, in Docket No. ER96-2495-018, et al., 1008 FERC ¶ 61,026.

Entergy states that copies of the filing were served on parties on the official service list in Docket No. ER91-569, as well as the Louisiana Public Service Commission, the Arkansas Public Service Commission, the Mississippi Public Service Commission, the New Orleans City Council, and the Public Utility Commission of Texas.

Comment Date: 5 p.m. eastern time on August 30, 2004.

3. AEP Power Marketing, Inc.; AEP Service Corporation, CSW Power Marketing, Inc.; CSW Energy Services, Inc.; and Central and South West Services, Inc.

[Docket Nos. ER96-2495-020, ER97-4143-008, ER97-1238-005, ER98-2075-014, ER9 8-542-010, (Not Consolidated)]

Take notice that, on August 9, 2004, as supplemented on August 10, 2004, American Electric Power Service Corporation (AEPSC), on behalf of the above-referenced AEP power marketers (collectively, AEP) submitted a market power analysis pursuant to the Commission's April 14, 2004, Order in Docket No. ER96-2495-016, et al., 107 FERC ¶ 61,018 and its July 8, 2004, Order in Docket No. ER96-2495-018, et al., 108 FERC ¶ 61,026.

AEP states that copies of the filing were served on parties on the official service list in the above-captioned proceeding.

Comment Date: 5 p.m. eastern time on August 30, 2004.

4. Southern Company Energy Marketing L.P.

[Docket Nos. ER97-4166-015]

Take notice that on August 9, 2004, Southern Company Services, Inc., (SCS) acting as agent for Alabama Power Company, Georgia Power Company, Gulf Power Company, Mississippi Power Company, Savannah Electric and Power Company, and Southern Power Company (collectively, Southern Companies), submitted generation market power screens and other analysis performed for Southern Companies in compliance with the Commission orders issued on April 14, 2004, and July 8, 2004, in Docket No. ER96-2495-016, et al., 107 FERC ¶ 61,018 in Docket No. ER96-2495-018, et al., 108- FERC ¶ 61, 026.

Comment Date: 5 p.m. eastern time on August 30, 2004.

5. Reliant Energy Aurora, LP, Liberty Electric Power, LLC; Reliant Energy Bighorn, LLC; Reliant Energy Choctaw County, LLC; Reliant Energy Electric Solutions, LLC; Reliant Energy Hunterstown, LLC; Reliant Energy Indian River, LLC; Reliant Energy Maryland Holdings, LLC; Reliant Energy Mid-Atlantic Power Holdings, LLC; Reliant Energy New Jersey Holdings, LLC; Reliant Energy Osceola, LLC; Reliant Energy Services, Inc.; Reliant Energy Seward, LLC; Reliant Energy Shelby County, LP; Reliant Energy Solutions East, LLC; Twelvepole Creek, LLC

[Docket No. ER01-687-003, ER01-2398-007, ER03-745-002, ER03-618-002, ER03-382-002, ER01-3036-004, ER99-3143-001, ER00-1749-001, ER00-22-001, ER99-1801-006, ER01-3035-004, ER00-1717-001, ER02-1762-002, ER01-852-003]

Take notice that on August 9, 2004, the above-captioned subsidiaries of Reliant Energy, Inc. filed an updated market study and tendered for filing amendments to certain of their market-based rate tariffs to include the Commission's Market Behavior Rules in compliance with the Commission's November 17, 2003, order in Docket No. EL01-118-000.

Comment Date: 5 p.m. eastern time on August 30, 2004.

6. Peoples Energy Services Corporation

[Docket No. ER01-2306-001]

Take notice that on August 9, 2004, Peoples Energy Services Corporation (PE Services) submitted for filing its triennial updated market analysis in compliance with the Commission's August 8, 2001, Letter Order in Docket No. ER01-2306-000. PE Services also submits certain revisions to its FERC Electric Tariff, Original Volume 1 to incorporate the Market Behavior Rules set forth in Investigation of Terms and Conditions of Public Utility Market-Based Authorizations, 105 FERC ¶ 61,218 (2003).

Comment Date: 5 p.m. eastern time on August 30, 2004.

7. PJM Interconnection, L.L.C.

[Docket Nos. ER03-1086-004 and ER04-361-001]

Take notice that on August 9, 2004, in compliance with the Commission's order issued July 9, 2004, order in Docket No. ER03-1086-001, 002 and 003, 108 FERC ¶ 61,030 (2004), PJM Interconnection, L.L.C. (PJM) filed revisions to the PJM Open Access Transmission Tariff and the Amended and Restated Operating Agreement of PJM Interconnection, L.L.C. to change the rules on opportunity cost compensation to generators.

PJM states that copies of this filing have been served on all PJM members and utility regulatory commissions in the PJM region and on all persons listed on the official service list compiled by the Secretary in this proceeding.

Comment Date: 5 p.m. eastern time on August 30, 2004.

8. PJM Interconnection, L.L.C.

[Docket No. ER04-457-002]

Take notice that, on August 9, 2004, PJM Interconnection, L.L.C. (PJM) submitted a compliance filing pursuant to the Commission's order issued July 8, 2004, in Docket No. ER04-457-000, 108 FERC ¶ 61,025 (2004).

PJM states that copies of the filing were served on parties on the official service list in the above-captioned proceeding, all members of PJM, and each state electric utility regulatory commissions in the PJM region.

Comment Date: 5 p.m. eastern time on August 30, 2004.

9. Entergy Services, Inc.

[Docket No. ER04-763-002]

Take notice that on August 9, 2004, Entergy Services, Inc., (Entergy) on behalf of Entergy Arkansas, Inc., Entergy Gulf States, Inc., Entergy Louisiana, Inc., Entergy Mississippi, Inc., and Entergy New Orleans, Inc., submitted a compliance filing concerning Entergy's proposed regional reliability variations to Entergy's Large Generator Interconnection Procedures. This compliance filing was made pursuant to the Commission's order issued July 8, 2004, in Docket No. ER04-763-000, and 001, 108 FERC ¶ 61,020 (2004).

Comment Date: 5 p.m. eastern time on August 30, 2004.

10. South Carolina Electric & Gas Company

[Docket No. ER04-764-003]

Take notice that on August 9, 2004, South Carolina Electric & Gas Company filed revisions to its open access transmission-tariff (OATT) in order to incorporate certain revisions to the Large Generator Interconnection Procedures (LGIP) directed by the Commission an order issued July 18, 2004, in Docket No. ER04-764-000 and 001, 108 FERC ¶ 61,018 (2004).

Comment Date: 5 p.m. eastern time on August 30, 2004.

11. Entergy Services, Inc.

[Docket No. ER04-830-001]

Take notice that on August 9, 2004, Entergy Services, Inc., (Entergy) on behalf of Entergy Arkansas, Inc., Entergy Gulf States, Inc., Entergy Louisiana, Inc., Entergy Mississippi, Inc., and Entergy New Orleans, Inc., submitted a compliance filing pursuant to the Commission's Order issued July 8, 2004, in Docket No. ER04-830-000, 108 FERC ¶ 61,029 (2004).

Comment Date: 5 p.m. eastern time on August 30, 2004.

12. NorthWestern Energy

[Docket No. ER04-1106-000]

Take notice that on August 9, 2004, NorthWestern Corporation, doing business as NorthWestern Energy, (NorthWestern Energy) tendered for filing Northwestern Energy's FERC Electric Tariff, Sixth Revised Volume No. 5, to include original and revised tariff sheets for which add (1) a new Schedule 9 containing the terms for the provision of a new service—Generation Imbalance Service and (2) a new Attachment J containing the pro forma Large Generator Interconnection Procedures and Large Generator Interconnection Agreement with minor modifications that have previously been accepted by the Commission. NorthWestern requests an effective date of October 1, 2004.

Comment Date: 5 p.m. eastern time on August 30, 2004.

13. Orlando Utilities Commission

[Docket No. NJ04-4-000]

Take notice that on July 28, 2004, Orlando Utilities Commission (OUC) submitted a supplement to its April 27, 2004, filing in Docket No. NJ04-4-000 to provide additional information regarding OUC's Guide for Interconnection, Control, and Protection of Producer-Owned Generation Interconnections.

Comment Date: 5 p.m. eastern time on August 20, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1857 Filed 8-19-04; 8:45 am]

BILLING CODE 6717-01-P